DEPARTMENT OF AGRICULTURE

Forest Service

Forestry Research Advisory Council

AGENCY: Forest Service, USDA.

ACTION: Notice of meeting.

SUMMARY: The Forestry Research Advisory Council (FRAC) will meet in Washington, DC. The Council is required by Section 1441 of the Agriculture and Food Act of 1981 (Act) and operates in compliance with the Federal Advisory Committee Act (FACA). Additional information concerning FRAC can be found by visiting the FRAC's Web site at: http://www.fs.fed.us/research/about/forestry-research-council/.

DATES: The meeting will be held on the following dates and time:

• Wednesday, October 12, 2016 from 8:30 a.m. to 5:00 p.m.

• Thursday, October 13, 2016 from 8:30 a.m. to 3:00 p.m.

All FRAC meetings are subject to cancellation. For updated status of the meeting prior to attendance, please contact the person listed under FOR FURTHER INFORMATION CONTACT.

ADDRESSES: The meeting will be held at the USDA Forest Service, Yates Building, Leopold Conference Room (2SE01), 201 14th Street SW., Washington, DC.

Written comments may be submitted as described under SUPPLEMENTARY INFORMATION. All comments, including names and addresses, when provided, are placed in the record and available for public inspection and copying. The public may inspect comments received at the USDA Forest Service—Washington Office. Please call ahead at 202-205-1724 to facilitate entry into the building.

FOR FURTHER INFORMATION CONTACT: Tracy C. Hancock, Designated Federal Officer, USDA Forest Service, Office of the Deputy Chief for Research and Development by phone at 202-205-1724, or by email at tchancock@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Discuss current and emerging forestry and natural resource research issues;

2. Provide a presentation and discussion on budget outlooks and program priorities of the US Forest Service Research and Development, and USDA National Institute of Food and Agriculture, including the McIntire-Stennis Cooperative Forestry Research Program; and

3. Discuss anticipated matters that may include USDA engagement in natural resource-related STEM research and education, partnerships with other agencies, interdisciplinary research, research in urban forestry, wood products development, and landscape-scale forest management.

The meeting is open to the public. The Council discussion is limited to the Forest Service, National Institute of Food and Agriculture staff and Council members; however, persons who wish to bring forestry research related matters to the attention of the Council may file written statements with the Designated Federal Officer (DFO) before or after the meeting.

Written comments must be sent to Tracy C. Hancock, Designated Federal Officer, Forestry Research Advisory Council, USDA Forest Service, Office of Research and Development, Knowledge Management & Communication Staff, 201 14th Street SW., Room-2 Central, Washington, DC 20250; by email to tchancock@fs.fed.us, or via fascimile to 202-401-1189 by October 5, 2016.

Meeting Accommodations: If you require sign language interpreting, assistive listening devices or other reasonable accommodation, please request this in advance of the meeting by contacting the person listed in the section titled FOR FURTHER INFORMATION CONTACT. All reasonable accommodations requests are managed on a case-by-case basis.

Dated: September 26, 2016.
Carlos Rodriguez-Franco,
Acting Deputy Chief, Research and Development.

[FR Doc. 2016-24651 Filed 10-11-16; 8:45 am]

BILLING CODE 3411-15-P